DEPARTMENT OF TRANSPORTATION

Federal Aviation Administration

14 CFR Part 97

[Docket No. 30326; Amdt. No. 3020]

Standard Instrument Approach Procedures; Miscellaneous Amendments

AGENCY: Federal Aviation Administration (FAA), DOT

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: This rule is effective August 28, 2002. The compliance date for each SIAP is specified in the amendatory provisions.

The incorporation by reference of certain publications listed in the regulations is approved by the Director of the Federal Register as of August 28, 2002

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

4. The Office of the Federal Register, 800 North Capitol Street, NW., Suite 700, Washington, DC.

For Purchase—Individual SIAP copies my be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPS and safety in air commerce, I find that notice and public procedure before adopting these SIAPs are impracticable and contrary to the public interest, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on August 16, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 972.29 ILS, ILS/DME ISMLS, MLS/DME, MLS/RNAV; § 97.31 RADAR SIAPs; § 97.33 RNAV SIAPs; and § 97.35 COPTER SIAPs, Identified as follows:

* * * Effective Upon Publication

FDC Date | State | City | Airport | FDC No. | Subject
05/17/02 | NM | Albuquerque | Albuquerque Intl Sunport | 2/4217 | Radar-1, Amdt 20B.
05/17/02 | OK | Holdenville | Holdenville Muni | 2/4228 | NDB Rwy 17, Amdt 4.
06/10/02 | TX | Pearsall | McKinley Field | 2/5257 | VOR/DME or GPS-A, Amdt 2.
07/08/02 | IL | Freeport | Albertus | 2/6661 | NDB Rwy 6, Orig-B.
07/31/02 | AZ | Phoenix | Phoenix Sky Harbor Intl | 2/7764 | ILS Rwy 7R, Amdt 1.
08/06/02 | NY | New York | John F. Kennedy Intl | 2/8215 | ILS Rwy 31R, Amdt 14.
08/08/02 | OH | Dayton | James M. Cox Dayton Intl | 2/8073 | RNAV (GPS) Rwy 6L, Orig.
08/08/02 | MI | Detroit | Detroit Metropolitan Wayne County | 2/8075 | VOR Rwy 22L, Amdt 1E.
08/08/02 | MI | Detroit | Detroit Metropolitan Wayne County | 2/8076 | NDB Rwy 4R, Amdt 10E.
08/08/02 | MI | Hancock | Houghton County Memorial | 2/8077 | NDB or GPS Rwy 31, Amdt 11B.
08/08/02 | MI | Detroit | Detroit Metropolitan Wayne County | 2/8079 | RNAV (GPS) Rwy 4L, Orig.
08/08/02 | NM | Albuquerque | Albuquerque Intl Sunport | 2/8085 | ILS RWY 3, Amdt 1.
08/08/02 | MA | Boston | General Edward Lawrence Logan Intl | 2/8091 | ILS Rwy 4R (Cat I, II, III), Amdt 9.
08/08/02 | MA | Boston | General Edward Lawrence Logan Intl | 2/8092 | NDB Rwy 4R, Amdt 23.
08/08/02 | MA | Boston | General Edward Lawrence Logan Intl | 2/8093 | ILS RWY 22L, Amdt 6.
08/08/02 | MA | Boston | General Edward Lawrence Logan Intl | 2/8094 | RNAV (GPS) Rwy 4R, Orig-B.
08/08/02 | MA | Boston | General Edward Lawrence Logan Intl | 2/8095 | VOR/DME or GPS-A, Orig.
08/08/02 | MA | Boston | General Edward Lawrence Logan Intl | 2/8096 | VOR/DME RNAV Rwy 4R, Amdt 1.
08/08/02 | MA | Boston | General Edward Lawrence Logan Intl | 2/8097 | VOR/DME Rwy 27, Amdt 2A.
08/08/02 | MA | Boston | General Edward Lawrence Logan Intl | 2/8098 | VOR/DME Rwy 33L, Amdt 2A.
08/08/02 | OH | Cleveland | Cleveland-Hopkins Intl | 2/8121 | ILS Rwy 24L, Amdt 17B.
08/08/02 | OH | Cleveland | Cleveland-Hopkins Intl | 2/8122 | NDB or GPS Rwy 24L, Amdt 1B.
08/08/02 | OH | Cleveland | Cleveland-Hopkins Intl | 2/8123 | NDB or GPS Rwy 6R, Amdt 5B.
08/08/02 | NC | Raleigh-Durham | Raleigh Durham Intl | 2/8138 | RNAV (GPS) RWY 232R, Orig.
08/08/02 | NC | Raleigh-Durham | Raleigh Durham Intl | 2/8139 | ILS RWY 23R, Amdt 9.
08/08/02 | NC | Raleigh-Durham | Raleigh Durham Intl | 2/8140 | NDB Rwy 5R, Amdt 20B.
08/08/02 | NC | Raleigh-Durham | Raleigh Durham Intl | 2/8144 | VOR Rwy 5R, Amdt 13B.
08/08/02 | NC | Raleigh-Durham | Raleigh Durham Intl | 2/8145 | ILS Rwy 5L, Amdt 4A.
08/08/02 | NC | Raleigh-Durham | Raleigh Durham Intl | 2/8146 | RNAV(GPS) Rwy 23L, Orig.
08/08/02 | NC | Raleigh-Durham | Raleigh Durham Intl | 2/8147 | ILS Rwy 23L, Amdt 6.
08/08/02 | NC | Raleigh-Durham | Raleigh Durham Intl | 2/8149 | VOR Rwy 32, Amdt 3B.
08/08/02 | NC | Raleigh-Durham | Raleigh Durham Intl | 2/8150 | ILS Rwy 5R, Amdt 26A.
08/08/02 | NC | Raleigh-Durham | Raleigh Durham Intl | 2/8151 | VOR Rwy 23L, Amdt 14C.
08/08/02 | TX | Tyler | Tyler Pounds Regional | 2/8159 | RNAV (GPS) Rwy 13, Orig.
08/08/02 | KS | Junction City | Freeman Field | 2/8182 | RNAV (GPS) Rwy 36, Orig.
08/08/02 | TX | Abilene | Abilene Regional | 2/8210 | ILS Rwy 35R Amdt 6C.
08/09/02 | NY | White Plains | Westchester County | 2/8216 | Copter ILS/DME 162, Orig-B.
08/09/02 | NJ | Newark | Newark Intl | 2/8217 | ILS Rwy 22R, Amdt 3A.
08/13/02 | RI | Block Island | Block Island State | 2/8342 | VOR/DME Rwy 10, Amdt 5.
08/13/02 | GA | Atlanta | Dekalb-Peachtree | 2/8351 | VOR/DME or GPS Rwy 27, Amdt 1A.
08/13/02 | GA | Atlanta | Dekalb-Peachtree | 2/8355 | ILS Rwy 20L, Amdt 7C.
08/13/02 | GA | Atlanta | Dekalb-Peachtree | 2/8357 | VOR/DME or GPS Rwy 20L, Amdt 1B.
08/13/02 | TX | Weatherford | Parker County | 2/8365 | VOR/DME-A, Orig.
08/13/02 | TX | Granbury | Grandbury Muni | 2/8367 | VOR/DME-A, Orig.
08/13/02 | TX | Fort Worth | Fort Worth Spinks | 2/8368 | ILS Rwy 35L, Amdt 1.
08/13/02 | TX | Mineral Wells | Mineral Wells | 2/8369 | VOR Rwy 31, Amdt 10A.
08/13/02 | TX | Fort Worth | Bourland Field | 2/8370 | VOR/DME-A, Orig.
08/13/02 | TX | Fort Worth | Bourland Field | 2/8372 | GPS Rwy 17, Orig.
08/13/02 | TX | Fort Worth | Bourland Field | 2/8373 | GPS Rwy 35, Orig.
08/13/02 | TX | Fort Worth | Fort Worth Meacham Intl | 2/8374 | ILS Rwy 34R, Amdt 1.
08/13/02 | TX | Fort Worth | Fort Worth Meacham Intl | 2/8379 | NDB or GPS Rwy 16L, Amdt 5A.
08/13/02 | TX | Fort Worth | Fort Worth Meacham Intl | 2/8380 | ILS Rwy 16L, Amdt 7.
08/13/02 | TX | Fort Worth | Fort Worth Meacham Intl | 2/8381 | GPS Rwy 34R, Orig-A.

[FR Doc. 02-21828 Filed 8-27-02; 8:45 am]

BILLING CODE 4910-13-M